DEPARTMENT OF AGRICULTURE

The Refund of Duties Paid on Imports of Certain Wool Products

AGENCY: Foreign Agricultural Service, USDA.

ACTION: Notice.

SUMMARY: The Foreign Agricultural Service (FAS) announces that it will accept affidavits from individuals or firms to substantiate eligibility for distributions from the Refund of Duties Paid on Imports of Certain Wool Products program (the Refund program) authorized under Section 12315 of the Agricultural Act of 2014 (Pub. L. 113-79) (the Act).

DATES: For calendar year 2016 distributions, affidavits must be electronically filed with FAS no later than March 1, 2016.

ADDRESSES: Affidavits, supporting documentation, and claims for distribution from the Trust Fund must be sent electronically to the Import Policies and Export Reporting Division, Office of Trade Programs, Foreign Agricultural Service, USDA using the following email address: pimawool@fas.usda.gov.

FOR FURTHER INFORMATION CONTACT: Peter Burr at (202) 720-3274, or via email at: pete.burr@fas.usda.gov.

Background

Section 12315 transferred the Refund program to the U.S. Department of Agriculture in FY 2016, from Customs and Border Protection, Department of Homeland Security. The Refund program is one of several programs authorized by Congress within the Agriculture Wool Apparel Manufacturers Trust Fund for each of calendar years 2016 through 2019. The purpose of the Refund program is to compensate wool manufacturers of men's and boy's wool suits, suit type jackets, or trousers of imported worsted wool fabrics of the kind described in heading 9902.51.11 or 9902.51.12; manufacturers of worsted wool fabrics who import wool yarn of the kind described in heading 9902.51.13; and manufacturers of wool yarn or fabric who import wool fiber or top of the kind described in heading 9902.51.14 of the Harmonized Tariff Schedule of the United States for customs duties paid on imported wool in 2000, 2001 and 2002. To claim a distribution from the Refund program manufacturers are directed to submit an affidavit that follows the statutory procedures specified under Section 12315(b) of the Act, and also as described on the FAS Web site at http://www.fas.usda.gov/programs/wool-apparel-manufacturers-trust-fund. Because section 12315 is self-effectuating, FAS will not be issuing regulations to implement the program this year. This notice announces the deadline and email address to which claims, affidavits and supporting documents must be sent.

SUPPLEMENTARY INFORMATION: Section 12315 of Act (Pub. L. 113-79) is set forth below in its entirety, followed by information about how to apply for a distribution from the Refund program.

“Sec. 12315 AGRICULTURE WOOL APPAREL MANUFACTURERS TRUST FUND.

(a) ESTABLISHMENT OF TRUST FUND.—There is established in the Treasury of the United States a trust fund to be known as the “Agriculture Wool Apparel Manufacturers Trust Fund” (in this section referred to as the “Trust Fund”), consisting of such amounts as may be transferred to the Trust Fund pursuant to subsection (f), and to be used for the purpose of reducing the injury to domestic manufacturers resulting from tariffs on wool fabric that are higher than tariffs on certain apparel articles made of wool fabric.

(b) DISTRIBUTION OF FUNDS.

(1) IN GENERAL.—From amounts in the Trust Fund, the Secretary may make payments annually beginning in calendar year 2014 for calendar years 2010 through 2019 as follows:

(A) To each eligible manufacturer under paragraph (3) of section 4002(c) of the Wool Suit and Textile Trade Extension Act of 2004 (Public Law 108-429; 118 Stat. 2600), as amended by section 1633(c) of the Miscellaneous Trade and Technical Corrections Act of 2006 (Public Law 109-280; 120 Stat. 1166) and section 325(b) of the Tax Extenders and Alternative Minimum Tax Relief Act of 2008 (division C of Public Law 110-343; 122 Stat. 3875), and any successor-in-interest to such a manufacturer as provided for under paragraph (4) of such section 4002(c), that submits an affidavit in accordance with paragraph (2) for the year of the payment—

(i) for calendar years 2010 through 2015, payments that, when added to any other payments made to the manufacturer or successor-in-interest under paragraph (3) of such section 4002(c) in such calendar years, equal the total amount of payments authorized to be provided to the manufacturer or successor-in-interest under that paragraph, or the provisions of this section, in such calendar years; and

(ii) for calendar years 2016 through 2019, payments in amounts authorized under that paragraph.

(B) To each eligible manufacturer under paragraph (6) of such section 4002(c)(i) for calendar years 2010 through 2014, payments that, when added to any other payments made to eligible manufacturers under that paragraph in such calendar years, equal the total amount of payments authorized to be provided to the manufacturer under that paragraph, or the provisions of this section, in such calendar years; and

(ii) for calendar years 2015 through 2019, payments in amounts authorized under that paragraph.

(2) SUBMISSION OF AFFIDAVITS.—An affidavit required by paragraph (1)(A) shall be submitted

(A) in each of calendar years 2010 through 2015, to the Commissioner responsible for U.S. Customs and Border Protection not later than April 15; and

(B) in each of calendar years 2016 through 2019, to the Secretary, or as directed by the Secretary, and not later than March 1.

(c) PAYMENT OF AMOUNTS.—The Secretary shall make payments to eligible manufacturers and successors-in-interest described in paragraphs (1) and (2) of subsection (b)

(1) for calendar years 2010 through 2014, not later than 30 days after the transfer of amounts from the Commodity Credit Corporation to the Trust Fund under subsection (f); and

(2) for calendar years 2015 through 2019, not later than April 15 of the year of the payment.

(d) MEMORANDA OF UNDERSTANDING.—The Secretary shall, as soon as practicable after the date of the enactment of this Act, negotiate memoranda of understanding with the Commissioner responsible for U.S. Customs and Border Protection and the Secretary of Commerce to establish procedures pursuant to which the Commissioner and the Secretary of Commerce will assist in carrying out the provisions of this section.

(e) INCREASE IN PAYMENTS IN THE EVENT OF EXPIRATION OF DUTY SUSPENSIONS.

(1) IN GENERAL.—In any calendar year in which the suspension of duty on wool fabrics provided for under headings 9902.51.11, 9902.51.13, 9902.51.14, 9902.51.15, and 9902.51.16 of the Harmonized Tariff Schedule of the United States are not in effect, the amount of any payment described in subsection (b)(1) to a manufacturer or successor-in-interest shall be increased by an amount the Secretary, after consultation with the Secretary of Commerce, determines is equal to the amount the manufacturer or successor-in-interest would have saved during the calendar year of the payment if the suspension of duty on wool fabrics were in effect.

(2) NO APPEAL OF DETERMINATIONS.—A determination of the Secretary under this subsection shall be final and not subject to appeal or protest.

(f) FUNDING.

(1) IN GENERAL.—Of the funds of the Commodity Credit Corporation, the Secretary shall transfer to the Trust Fund for each of calendar years 2014 through 2019 an amount equal to the lesser of

(A) the amount the Secretary determines to be necessary to make payments required by this section in that calendar year; or

(B) $30,000,000.

(2) AVAILABILITY.—Amounts transferred to the Trust fund under paragraph (1) shall remain available until expended.”

PROCEDURES FOR CLAIMING A DISTRIBUTION UNDER THE STATUTE: Eligible claimants seeking a distribution under the Refund program are directed to submit an affidavit to FAS, following the statutory procedures specified in section 12315(b)(2) of the Act and on the FAS Web site. All claimants must also provide FAS with an Internal Revenue Service form W-9 to indicate and certify their taxpayer identification number and a direct deposit sign-up form 1199A to facilitate any electronic transfer of funds. Note that claimants must maintain any documentation as they have affirmed to exist in their respective affidavits.

DEADLINES FOR CLAIM/AFFIDAVIT SUBMISSON: All affidavits, W-9, and 1199A forms by eligible claimants for calendar year 2016 distributions must be sent to FAS no later than March 1, 2016.

ADDRESS: The USDA agency charged with administering the Trust Fund is the Foreign Agricultural Service, Office of Trade Programs, Import Policies and Export Reporting Division. This office is physically located at: 1400 Independence Ave, SW., Room 5526-S, Mail Stop 1021, Washington, DC 20250. Affidavits for distribution from the Trust Fund, including supporting W-9 and 1199A forms, and any other documentation that may be subsequently requested by FAS, must be submitted electronically to the following email address: pimawool@fas.usda.gov.

Dated: January 19, 2016.
Suzanne Palmieri,
Acting Administrator, Foreign Agricultural Service.

[FR Doc. 2016-01749 Filed 1-29-16; 8:45 am]

BILLING CODE 3410-10-P